DEPARTMENT OF LABOR

Employment and Training Administration

[TA-W-53,147; TA-W-53,147A]

Eagle Picher, Inc., Hillsdale, Michigan; and Eagle Picher, Inc., Jonesville, Michigan; Amended Certification Regarding Eligibility To Apply for Worker Adjustment Assistance

In accordance with section 223 of the Trade Act of 1974 (19 U.S.C. 2273) the Department of Labor issued a Certification of Eligibility to Apply for Worker Adjustment Assistance on November 21, 2003, applicable to workers of Eagle Picher, Inc., located in Hillsdale, Michigan. The notice will soon be published in the Federal Register.

At the request of the petitioner, the Department reviewed the certification for workers of the subject firm. Workers of Eagle Picher, Inc. in Hillsdale, Michigan, produce precision machined components and assemblies for the automotive industry.

Review of the file shows that the Department inadvertently excluded workers separated from employment at Eagle Picher, Inc. in Jonesville, Michigan. The workers at the Jonesville location are part of the vertically integrated production of precision machined components and assemblies at Eagle Picher, Inc. in Hillsdale, Michigan.

It is the Department's intent to include all workers of Eagle Picher affected by increases in imports. Accordingly, the Department is amending the certification to include workers of Eagle Picher in Jonesville, Michigan.

The amended notice applicable to TA-W-53,147 is hereby issued as follows:

All workers of Eagle Picher, Inc., Hillsdale, Michigan (TA-W-53,147), and Eagle Picher, Inc., Jonesville, Michigan (TA-W-53,147A), who became totally or partially separated from employment on or after September 26, 2002, through November 21, 2005, are eligible to apply for adjustment assistance under section 223 of the Trade Act of 1974.

Signed at Washington, DC, this 6th day of January, 2004.
Linda G. Poole,
Certifying Officer, Division of Trade Adjustment Assistance.

[FR Doc. E4-136 Filed 1-27-04; 8:45 am]

BILLING CODE 4510-13-P